DEPARTMENT OF COMMERCE

International Trade Administration

[C-570-938]

Citric Acid and Certain Citrate Salts From the People's Republic of China: Extension of Time Limit for the Final Results of the Countervailing Duty Administrative Review

AGENCY: Import Administration, International Trade Administration, Department of Commerce.

FOR FURTHER INFORMATION CONTACT: Dave Layton at (202) 482-0371 or Austin Redington at (202) 482-1664; AD/CVD Operations, Office 1, Import Administration, International Trade Administration, U.S. Department of Commerce, 14th Street and Constitution Avenue, NW., Washington, DC 20230.

SUPPLEMENTARY INFORMATION:

Background

On June 8, 2011, the Department of Commerce (“Department”) published the preliminary results of the administrative review of the countervailing duty order on citric acid and certain citrate sales from People's Republic of China, covering the period September 19, 2008, through December 31, 2009. See Citric Acid and Certain Citrate Sales from the People's Republic of China: Preliminary Results of Countervailing Duty Administrative Review, 76 FR 33219 (June 8, 2011) (“Preliminary Results”). In the Preliminary Results we stated that we would issue our final results for the countervailing duty administrative review no later than 120 days after the date of publication of the Preliminary Results.

Statutory Time Limits

Section 751(a)(3)(A) of the Tariff Act of 1930, as amended (“the Act”), requires the Department to issue the final results of an administrative review within 120 days of the publication of the Preliminary Results. If it is not practicable to complete the review within the time period, section 751(a)(3)(A) of the Act allows the Department to extend this deadline to a maximum of 180 days.

Extension of Time Limits for Final Results

The Department has determined that completion of the final results of this review within the original time period (i.e., by October 6, 2011) is not practicable. We are currently verifying the responses of the respondents, and will require time to write verification reports and allow interested parties adequate time to comment. Also, in the instant review, the Department needs additional time to conduct a post-preliminary analysis of lending programs, the respondents' creditworthiness, and inputs supplied for less than adequate remuneration. See Preliminary Results, 76 FR at 33238. Therefore, the Department is extending the time limit for completion of the final results to not later than December 5, 2011, which is 180 days from the date of publication of the Preliminary Results, in accordance with section 751(a)(3)(A) of the Act.

We are issuing and publishing this notice in accordance with sections 751(a) and 777(i)(1) of the Act.

Dated: September 6, 2011.
Christian Marsh,
Deputy Assistant Secretary for Antidumping and Countervailing Duty Operations.

[FR Doc. 2011-23281 Filed 9-9-11; 8:45 am]

BILLING CODE 3510-DS-P